DEPARTMENT OF TRANSPORTATION

Federal Highway Administration

Notice of Final Federal Agency Actions on Proposed Transportation Project in Ohio and Kentucky

AGENCY: Federal Highway Administration (FHWA), DOT.

ACTION: Notice of limitation on claims for judicial review of actions by FHWA and other Federal agencies.

SUMMARY: This notice announces action taken by FHWA and other Federal agencies that are final. The actions relate to the Brent Spence Bridge (BSB) Corridor Project (Project) proposed by the Ohio Department of Transportation and the Kentucky Transportation Cabinet, consisting of 7.8 total miles of I-71 and I-75 from south of Dixie Highway (US-25) in Kentucky to north of the Western Hills Viaduct in Ohio. The actions grant licenses, permits, or approvals for the Project. The supplemental Environmental Assessment (EA), Finding of No Significant Impact (FONSI) under the National Environmental Policy Act (NEPA), and other documents in the Project file provide details on the Project and FHWA's actions.

DATES: By this notice, FHWA is advising the public of final agency actions subject to 23 U.S.C. 139(l)(1). A claim seeking judicial review of the Federal agency actions on the highway project will be barred unless the claim is filed on or before October 15, 2024. If the Federal law that authorizes judicial review of a claim provides a time period of less than 150 days for filing such claim, then that shorter time period still applies.

FOR FURTHER INFORMATION CONTACT: David Snyder, Division Administrator, Federal Highway Administration, 200 North High Street, Room 328, Columbus, Ohio 43215, Telephone (614) 280-6822.

SUPPLEMENTARY INFORMATION: Notice is hereby given that FHWA and other Federal agencies have taken final agency actions by issuing approvals for the following highway project in Ohio and Kentucky: the Brent Spence Bridge (BSB) Corridor Project (Project).

The actions by the Federal agencies, and the laws under which such actions were taken, are described in the supplemental EA and FONSI and the associated agency records. That information is available by contacting FHWA at the address provided above and can also be viewed and downloaded from the project website at: https://brentspencebridgecorridor.com/.

This notice applies to FHWA agency decisions as of the issuance date of this notice and all laws under which such actions were taken, including but not limited to:

1. National Environmental Policy Act [42 U.S.C. 4321-4351].

2. Federal-Aid Highway Act [23 U.S.C. 109].

3. Clean Air Act [42 U.S.C. 7401-7671(q)].

4. Section 6(f) of the Land and Water Conservation Fund Act of 1965 [16 U.S.C. 4601-4 et seq.].

5. Section 4(f) of the Department of Transportation Act of 1966 [49 U.S.C. 303].

6. Endangered Species Act [16 U.S.C. 1531-1544 and 1536].

7. Fish and Wildlife Coordination Act [16 U.S.C. 661-667(d)].

8. Migratory Bird Treaty Act [16 U.S.C. 703-712].

9. Bald and Golden Eagle Protection Act [16 U.S.C. 668-668c].

10. Section 106 of the National Historic Preservation Act of 1966, as amended [54 U.S.C. 306101 et seq.].

11. Civil Rights Act of 1964 [42 U.S.C. 2000d et seq.].

12. Farmland Protection Policy Act [7 U.S.C. 4201-4209].

13. Clean Water Act (Section 319, Section 401, Section 402, Section 404) [33 U.S.C. 1251-1377].

14. Safe Drinking Water Act [42 U.S.C. 300(f) et seq.].

15. Uniform Relocation Assistance and Real Property Acquisition Policies Act of 1970 [42 U.S.C. 4601 et seq.].

16. Noise Control Act of 1972 [42 U.S.C. 4901 et seq.].

17. Resource Conservation and Recovery Act [42 U.S.C. 6901-6992(k)].

18. Comprehensive Environmental Response, Compensation, and Liability Act [42 U.S.C. 9601-9675].

19. Americans with Disabilities Act of 1990 [42 U.S.C. 12101].

20. Executive Order 11990 Protection of Wetlands.

21. Executive Order 11988 Floodplain Management.

22. Executive Order 12898 Federal Actions to Address Environmental Justice in Minority Populations and Low-Income Populations.

23. Executive Order 11593 Protection and Enhancement of Cultural Resources.

24. Executive Order 13007 Indian Sacred Sites.

25. Executive Order 13287 Preserve America.

26. Executive Order 13175 Consultation and Coordination with Indian Tribal Governments.

27. Executive Order 11514 Protection and Enhancement of Environmental Quality.

28. Executive Order 13112 Invasive Species.

29. Executive Order 13166 Improving Access to Services for Persons with Limited English Proficiency.

30. Executive Order 13045 Protection of Children From Environmental Health Risks and Safety Risks.

31. Executive Order 14096 Revitalizing Our Nation's Commitment to Environmental Justice for All.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act, (Pub. L. 112-141, 126 Stat. 405).

David Snyder,
Division Administrator, Federal Highway Administration.

[FR Doc. 2024-10582 Filed 5-14-24; 8:45 am]

BILLING CODE 4910-RY-P